DEPARTMENT OF ENERGY

Federal Energy Regulatory Commission

Notice of Request To Use Alternative Procedures in Preparing a License Application

October 12, 2001.

Take notice that the following request to use alternative procedures to prepare a license application has been filed with the Commission.

a. Type of Filing: Request to use alternative procedures to prepare a new license application.

b. Project No.: 2219-013.

c. Date filed: September 26, 2001.

d. Applicant: Garkane Power Association Inc.

e. Name of Project: Boulder Creek Hydroelectric Project.

f. Location: On Boulder Creek, in Garfield County, approximately 100 miles east of Cedar City, in the Boulder Mountains, in a remote area of south-central Utah. The Project occupies 36.86 acres of federal lands within the Dixie National Forest.

g. Filed Pursuant to: Federal Power Act, 16 U.S.C. 791(a)-825(r).

h. Applicant Contact: Garkane Power Association, Mike Avant, Engineering Manager, 1802 South 175 East, Kanab, UT 84741 or Jones & DeMille Engineering, John Spedlove, Project Manager, 1440 South Pipe Lane, Richfield, UT 84701 (435) 896-8266.

i. FERC Contact: Dianne E. Rodman at (202) 219-2830; e-mail Dianne.Rodman@ferc.fed.us.

j. Copies of this filing are on file with the Commission and are available for public inspection. This filing may also be viewed on the web at http://www.ferc.gov using the “RIMS” link, select “Docket#” and follow the instructions (call202-208-2222 for assistance).

k. Deadline for Comments: 30 days from the date of this notice.

All documents (original and eight copies) should be filed with: David P. Boergers, Secretary, Federal Energy Regulatory Commission, 888 First Street, NE., Washington, DC 20426.

Comments may be filed electronically via the Internet in lieu of paper. See 18 CFR 385.2001(a)(1)(iii) and the instructions on the Commission's web site (http://www.ferc.gov) under the “e-Filing” link.

l. The existing project consists of: A rock-fill diversion dam on the West Fork of Boulder Creek, having a rolled earth filled core and a maximum height of approximately 24 feet; two ungated spillways; diversion gate facilities; a buried 27-inch diameter conduit 17,600 feet long to a penstock forebay formed by an earth-fill dam 25 feet high and 34 feet long with an ogee concrete spillway on the East Fork of Boulder Creek; a concrete gravity dam about 4 feet high and 45 feet in length located near the toe of the West Fork diversion dam; a recovery pond; a pumphouse containing a 3 horsepower (hp) pump; an 8-inch diameter steel pipe about 60 feet long from the pumphouse and connecting with the buried 27-inch diameter conduit; 22,200 feet of 34 to 30-inch steel penstock; a powerhouse containing three 1975-hp impulse turbines operating under a static head of 1,527 feet, connected to three 1,400-kilowatt (kW) generators; an afterbay reregulating pool with gates and ditches to return water to water-right owners; access roads; a return ditch to Boulder Creek; a switchyard; a 69-kilovolt (kV) transmission line extending 28 miles to a substation at Escalante and a 69-kV line 23 miles long between the Escalante and Henrieville substations; and other appurtenant structures and equipment. There are no proposed changes to the project facilities.

m. Garkane Power Association (Garkane Power) has demonstrated that it has made an effort to contact all federal and state resources agencies, non-governmental organizations (NGO), and others affected by the project. Garkane Power has also demonstrated that a consensus exists that the use of alternative procedures is appropriate in this case. Garkane Power has submitted a communications protocol that is supported by the stakeholders.

The purpose of this notice is to invite any additional comments on Garkane Power's request to use the alternative procedures, pursuant to Section 4.34(i) of the Commission's regulations. Additional notices seeking comments on the specific project proposal, interventions and protests, and recommended terms and conditions will be issued at a later date. Garkane Power will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

Garkane Power has met with federal and state resources agencies, NGOs, elected officials, flood control and downstream interests, environmental groups, business and economic development organizations, the boating industry, and members of the public regarding the Boulder Creek Project. Garkane Power intends to file 6-month progress reports during the alternative procedures process that leads to the filing of a license application by April 30, 2005.

David P. Boergers,
Secretary.

[FR Doc. 01-26249 Filed 10-17-01; 8:45 am]

BILLING CODE 6717-01-P